DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 56 eligible grant recipients funded in FY 2025 Projects for Assistance in Transition from Homelessness Grant (PATH), Notice of Funding Opportunity (NOFO) SM-24-F2. Each PATH recipient may receive up to $9,083. These awards have a project end date of September 29, 2026.

FOR FURTHER INFORMATION CONTACT: Doug Slothouber, Chief, State and Homeless Programs Branch, Center for Mental Health Services, Substance Abuse and Mental Health Services Administration, 5600 Fishers Lane, Rockville, MD 20857; Email: Doug.Slothouber@samhsa.hhs.gov.

SUPPLEMENTARY INFORMATION:

Funding Opportunity Title: FY 2025 Projects for Assistance in Transition from Homelessness, SM-24-F2.

Assistance Listing Number: 93.150.

Authority: The PATH program was originally authorized as Section 521 of the Public Health Service Act (42 U.S.C. 290cc-21) established by the Stewart B. McKinney Homeless Assistance Amendments Act of 1990 (Pub. L. 101-645) and was most recently re-authorized through the Consolidated Appropriations Act, 2023 (Pub. L. 117-328).

Justification: Eligibility for this supplemental funding is limited to the 56 PATH recipients awarded under funding announcement SM-24-F2 as they are currently providing services as defined in statute.

This is not a formal request for application. Assistance will only be provided to the 56 PATH recipients based on the receipt of a statement requesting the funds, including a description of how the PATH recipient intends to use the supplemental funds.

Dated: September 3, 2025.
Ann Ferrero,
Public Health Analyst.

[FR Doc. 2025-17047 Filed 9-4-25; 8:45 am]

BILLING CODE 4162-20-P